DEPARTMENT OF HEALTH AND HUMAN SERVICES

Food and Drug Administration

[Docket No. FDA-2008-N-0487]

Agency Information Collection Activities; Submission for Office of Management and Budget Review; Comment Request; Food Safety Survey

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by October 15, 2009.

ADDRESSES: To ensure that comments on the information collection are received, OMB recommends that written comments be faxed to the Office of Information and Regulatory Affairs, OMB, Attn: FDA Desk Officer, FAX: 202-395-6974, or e-mailed to oira_submission@omb.eop.gov. All comments should be identified with the OMB control number 0910-0345. Also include the FDA docket number found in brackets in the heading of this document.

FOR FURTHER INFORMATION CONTACT: Jonna Capezzuto, Office of Information Management (HFA-710), Food and Drug Administration, 5600 Fishers Lane, Rockville, MD 20857, 301-796-3794, JonnaLynn.Capezzuto@fda.hhs.gov.

SUPPLEMENTARY INFORMATION: In compliance with 44 U.S.C. 3507, FDA has submitted the following proposed collection of information to OMB for review and clearance.

Food Safety Survey—(OMB Control Number 0910-0345—Reinstatement)

Under section 903(b)(2) of the Federal Food, Drug, and Cosmetic Act (21 U.S.C. 393(b)(2)), FDA is authorized to conduct research relating to foods and to conduct educational and public information programs relating to the safety of the nation's food supply. The Food Safety Survey is a nationally representative survey of consumers' knowledge, attitudes, and beliefs about food safety. Previous versions of the survey were collected in 1988, 1993, 1998, 2001, and 2006. Data from the previous surveys are being used to evaluate two Healthy People 2010 objectives: (1) Increase the proportion of consumers who follow key food safety practices (Objective 10-5), and (2) reduce severe allergic reactions to food among adults (Objective 10-4b). Additionally, data are used to measure trends in consumer food safety habits including hand and cutting board washing, cooking practices, and use of food thermometers. Finally, data are used to evaluate educational messages and to inform policymakers about consumer attitudes about novel technologies such as food irradiation and biotechnology.

Since 2006, there have been several high profile recalls of FDA-regulated food due to contamination. Information about food recalls does not always reach the intended audience (Refs. 1, 2, and 3). The Food Safety Survey planned for 2009 will look specifically at reasons why consumers do not always heed food recall alerts. A new food recall module will be added that contains new questions to learn about how recent food recalls have affected consumer confidence in the food supply and what effect, if any, they have on consumers' home food safety behaviors. This information will help FDA develop strategies to more effectively communicate food recall information to the public.

The methods for the 2009 version of the Food Safety Survey will be the same as for the previous Food Safety Surveys. A nationally representative sample of 4,000 adults in households with telephones will be selected at random and interviewed by telephone. This survey will include an oversample of Hispanics with a minimum of 500 Hispanics sampled. Additionally, 200 initial nonrespondents will be asked to participate in a short version of the survey to conduct a nonresponse analysis. Participation will be voluntary. Cognitive interviews and a pretest will be conducted prior to fielding the survey.

In the Federal Register of September 17, 2008 (73 FR 53878), FDA published a 60-day notice requesting public comment on the proposed collection of information. The agency received one comment that was not responsive to the comment request on the information collection provisions.

FDA estimates the burden of this collection of information as follows:

The total estimated burden imposed by this collection of information is 1,541 hours (table 1 of this document).

Table 1.—Estimated Annual Reporting Burden¹
Activity | No. of Respondents | Annual Frequency per Response | Total Annual Responses | Hours per Response | Total Hours
Cognitive Interview | 20 | 1 | 20 | 1 | 20
Pretest | 27 | 1 | 27 | 0.5 | 14
Screener | 10,000 | 1 | 10,000 | .0167 | 167
Survey | 4,000 | 1 | 4,000 | .33 | 1,320
Nonresponse | 200 | 1 | 200 | .10 | 20
Total | 1,541
¹ There are no capital costs or operating and maintenance costs associated with this collection of information.

Prior to finalizing the survey, FDA will conduct 20 cognitive interviews each requiring an average of 1 hour per respondent for a total of 20 hours. Before the survey is fielded, a small pretest of 27 individuals, each lasting half an hour (0.5 hour), will be conducted. The survey screener is estimated to take 1 minute or less per response for a total screener burden of 4,000 (respondents) + 6,000 (ineligibles screened) x .0167 hours = 167 hours. The survey will require an average of 20 minutes (0.33 hours) per respondent and we expect that the variation in burden across respondents will be small. This estimate is based on average interview time for the 2006 Food Safety Survey. The proposed number of respondents is 4,000, each of whom will be asked to complete a one-time telephone interview that requires no preparation time. Additionally, 200 initial nonrespondents will be asked to participate in a short version of the survey to conduct a nonresponse analysis. This is expected to take 6 minutes (0.10 hours). Therefore, the total estimated public reporting burden is 1,541 hours.

We have revised the burden table. In the 60-day notice published on September 17, 2008, we estimated the total burden to be 1,421 hours. The total burden of 1,541 hours estimated in table 1 of this document includes an additional 120 hours, which resulted from correcting a typographical error in line 4 of the table. The hours per response in line 4 of table 1 changed from 0.3 to 0.33.

Dated: September 1, 2009.
David Horowitz,
Assistant Commissioner for Policy.

[FR Doc. E9-22121 Filed 9-14-09; 8:45 am]

BILLING CODE 4160-01-S